DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Highly Migratory Species Permit Family of Forms.

OMB Control Number: 0648-0327.

Form Number(s): None.

Type of Request: Regular (revision and extension of a currently approved information collection).

Number of Respondents: 38,095.

Average Hours per Response: HMS ITP application, termination of Atlantic HMS Vessel Chartering Permit, and renewal of Atlantic Tunas Dealer Permit application, 5 minutes; renewal applications for the following vessel permits—Atlantic Tunas, HMS Charter/Headboat, and HMS Angling, 6 minutes; initial Atlantic Tunas Dealer Permit application, 15 minutes; initial applications for the following vessel permits—Atlantic Tunas, HMS Charter/Headboat, HMS Angling, and Smoothhound Shark, 30 minutes; initial applications for Atlantic HMS Vessel Chartering Permit, 45 minutes.

Burden Hours: 8,307.

Needs and Uses: This request is for the revision and extension of a current information collection which includes both vessel and dealer permits.

Under the provisions of the Magnuson-Stevens Fishery Conservation and Management Act (16 U.S.C. 1801 et seq.), the National Oceanic and Atmospheric Administration's National Marine Fisheries Service (NMFS) is responsible for management of the Nation's marine fisheries. In addition, NMFS must comply with the United States' (U.S.) obligations under the Atlantic Tunas Convention Act of 1975 (16 U.S.C. 971 et seq.). NMFS issues permits to fishing vessels and dealers in order to collect information necessary to comply with domestic and international obligations, secure compliance with regulations, and disseminate necessary information.

Regulations at 50 CFR 635.4 require that vessels participating in commercial and recreational fisheries for Atlantic highly migratory species (HMS) and dealers purchasing Atlantic HMS from a vessel obtain a Federal permit issued by NMFS. Regulations at 50 CFR 300.182 require that individuals entering for consumption, exporting, or re-exporting consignments of bluefin tuna, southern bluefin tuna, swordfish, or frozen bigeye tuna obtain an HMS International Trade Permit (ITP) from NMFS. This action addresses the renewal of permit applications currently approved under PRA 0648-0327, including both vessel and dealer permits. Vessel permits include Atlantic Tunas (except Longline permits, which are approved under OMB Control No. 0648-0205), HMS Charter/Headboat, HMS Angling, Swordfish General Commercial, Smoothhound Shark, and Atlantic HMS Vessel Chartering permits. Dealer permits include the Atlantic Tunas Dealer permit and the HMS ITP.

The primary reason for the revision of this information collection is to reflect that Incidental HMS Squid Trawl permits have been removed from this collection. Instead, those permits were combined with the information collection for the Greater Atlantic Region Federal Fisheries Initial Permit Application form, which is covered under OMB Control No. 0648-0202. Thus, the burden and costs associated with renewal and issuance of an initial HMS Squid Trawl permit are no longer applicable to this collection of information. In addition, an International Maritime Organization (IMO) number must now be applied for by those not already in possession of one.

Affected Public: Business or other for-profit organizations.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 4, 2015.
Sarah Brabson,
NOAA PRA Clearance Officer.

[FR Doc. 2015-14123 Filed 6-9-15; 8:45 am]

BILLING CODE 3510-22-P